POSTAL SERVICE

39 CFR Parts 3 and 10

Bylaws of the Board of Governors of the United States Postal Service

AGENCY: Postal Service™.

ACTION: Final rule; technical amendments.

SUMMARY: This document includes several technical edits to the Bylaws of the Board of Governors to follow recent amendments to these regulations. This document also updates the provisions concerning financial reporting.

DATES: Effective May 10, 2021.

FOR FURTHER INFORMATION CONTACT: Michael J. Elston, Secretary of the Board of Governors, michael.j.elston@usps.gov, 202-268-4800.

SUPPLEMENTARY INFORMATION: On November 13, 2020, the Board of Governors approved amendments to its Bylaws to address a variety of issues. The Postal Service published the revised Bylaws in the Federal Register on February 18, 2021, and the changes were effective as of this same date. The Postal Service is now making several technical corrections following these changes. In addition, the Postal Service is updating the Bylaw provisions that concern financial reporting for the Board of Governors.

List of Subjects

39 CFR Part 3

Board of Governors.

39 CFR Part 10

Rules of Conduct for Postal Service Governors.

For the reasons stated in the preamble, the Postal Service amends 39 CFR chapter I as follows:

PART 3—BOARD OF GOVERNORS

1. The authority citation for part 3 continues to read as follows:

Authority: 39 U.S.C. 202, 203, 205, 401 (2), (10), 402, 404(b), 414, 416, 1003, 2005, 2011, 2802-2804, 3013, 3622, 3632, 3642, 3652, 3654, 3691; 5 U.S.C. 552b(g), (j); 5 U.S.C. App.; Pub. L. 107-67, 115 Stat. 514 (2001).

§ 3.3 [Amended]

2. Amend § 3.3 by removing the erroneous paragraph (3) following paragraph (b) and removing paragraphs (o), (p), (q), and (r).

§ 3.6 [Amended]

3. Amend § 3.6 by removing the semicolon at the end of paragraph (a)(5) and adding a period in its place and by removing paragraph (a)(6).

4. In § 3.7, revise paragraph (b) to read as follows:

§ 3.7 Information furnished to Board—program review.

* * * * *

(b) To enable the Board to review the effectiveness of the Postal Service's equal employment opportunity program, performance data relating to this program shall be furnished to the Board at least annually. These data shall be categorized in such manner as the Board, from time to time, specifies.

* * * * *

PART 10—RULES OF CONDUCT FOR POSTAL SERVICE GOVERNORS

5. The authority citation for part 10 continues to read as follows:

Authority: 39 U.S.C. 401(2), (10).

6. Revise § 10.4 to read as follows:

§ 10.4 Financial disclosure reports.

(a) Requirement of submission of reports—(1) Upon nomination. At the time of their nomination, Governors complete a financial disclosure report which, under the practice of the Senate Homeland Security and Governmental Affairs Committee, is kept confidential.

(2) After confirmation. Because the Director of the Office of Government Ethics has concluded that Governors who do not perform the duties of their office for more than 60 days in any calendar year are not required to file financial disclosure reports that are open to the public, Governors file non-public reports annually, in accordance with this section. A Governor who performs the duties of his or her office for more than 60 days in a particular calendar year is required to file a public report in accordance with 5 CFR 2634.204(c).

(b) Person with whom reports should be filed and time for filing. (1) A Governor shall file a financial disclosure report with the Associate General Counsel on or before May 15 of each year when the Governor has been in office for more than 60 consecutive calendar days during the previous year.

(2) The Associate General Counsel may, for good cause shown, grant to a Governor one or more extensions totaling not more than 90 days.

(c) Information required to be reported. Each report shall be a full and complete statement, on the form prescribed by the Associate General Counsel and the Office of Government Ethics and in accordance with instructions issued by him or her.

(d) Reviewing reports. (1) Financial disclosure reports filed in accordance with the provisions of this section shall, within 60 days after the date of filing, be reviewed by the Associate General Counsel who shall either approve the report, or make an initial determination that a conflict or appearance thereof exists. If the Associate General Counsel determines initially that a conflict or the appearance of a conflict exists, he or she shall inform the Governor of his or her determination.

(2) If the Associate General Counsel considers that additional information is needed to complete the report or to allow an adequate review to be conducted, he or she shall request the reporting Governor to furnish that information by a specified date.

(3) The Associate General Counsel shall refer to the Chairman of the Board of Governors or the Vice Chairman the name of any Governor he or she has reasonable cause to believe has wrongfully failed to file a report or has falsified or wrongfully failed to report required information.

(e) Custody of and public access to reports—(1) Retention of reports. Each report filed with the Associate General Counsel shall be retained by him or her for a period of six years. After the six-year period, the report shall be destroyed unless needed in connection with an investigation then pending.

(2) Confidentiality of reports. Unless a public report is required by this section, the financial disclosure reports filed by Governors shall not be made public.

Michael J. Elston,
Secretary of the Board of Governors.

[FR Doc. 2021-09714 Filed 5-7-21; 8:45 am]

BILLING CODE 7710-12-P